DEPARTMENT OF COMMERCE

International Trade Administration

[A-475-703]

Granular Polytetrafluoroethylene From Italy: Notice of Rescission of Antidumping Duty Administrative Review

AGENCY: Import Administration, International Trade Administration, Department of Commerce.

EFFECTIVE DATE: November 1, 2004.

SUMMARY: On September 22, 2004, the Department of Commerce (the Department) published in the Federal Register a notice announcing the initiation of an administrative review of the antidumping duty order on granular polytetrafluoroethylene from Italy, covering the period August 1, 2003, through July 31, 2004. See Notice of Antidumping and Countervailing Duty Administrative Reviews and Request for Revocation in Part, 69 FR 56745 (September 22, 2004) (Initiation Notice). The review was requested by Solvay Solexis America Inc. and Solvay Solexis, Inc. (collectively Solvay), an Italian producer of the subject merchandise under review and its United States subsidiary. We are now rescinding this review as a result of Solvay's withdrawal of its request for an administrative review.

FOR FURTHER INFORMATION CONTACT: Constance Handley or David Neubacher, at (202) 482-0631 or (202) 482-5823, respectively, AD/CVD Operations Office 1, Import Administration, International Trade Administration, U.S. Department of Commerce, 14th Street & Constitution Avenue, NW., Washington, DC 20230.

SUPPLEMENTARY INFORMATION:

Background

In accordance with 19 CFR 351.213(b), on June 30, 2004, Solvay requested an administrative review of the antidumping duty order on granular polytetrafluoroethylene from Italy. On September 22, 2004, in accordance with 19 CFR 351.221(c)(1)(i), we published the initiation of an administrative review of this order for the period August 1, 2003, through July 31, 2004. See Initiation Notice. On October 14, 2004, Solvay timely withdrew its request for an administrative review of granular polytetrafluoroethylene from Italy.

Rescission of Review

The Department's regulations at 19 CFR 351.213(d)(1) provide that the Department will rescind an administrative review if the party that requested the review withdraws its request for review within 90 days of the date of publication of the notice of initiation of the requested review, or withdraws its request at a later date if the Department determines that it is reasonable to extend the time limit for withdrawing the request. Solvay withdrew its request within the 90-day period and was the only party to request this review. Accordingly, we are rescinding this review. The Department will issue appropriate assessment instructions to U.S. Customs and Border Protection within 15 days of publication of this notice.

This notice serves as a reminder to parties subject to administrative protective order (APO) of their responsibility concerning the disposition of proprietary information disclosed under APO in accordance with 19 CFR 351.305(a)(3). Timely written notification of the return or destruction of APO materials or conversion to judicial protective order is hereby requested. Failure to comply with the regulations and terms of an APO is a sanctionable violation.

This notice is issued and published in accordance with 19 CFR 351.213(d)(4) and section 777(i)(1) of the Tariff Act of 1930, as amended.

Dated: October 26, 2004.
Jeffrey May,
Deputy Assistant Secretary for Import Administration.

[FR Doc. E4-2955 Filed 10-29-04; 8:45 am]

BILLING CODE 3510-DS-P